DEPARTMENT OF JUSTICE

Notice of Lodging of Proposed Consent Decree Under the Clean Water Act

On July 11, 2013, the Department of Justice lodged a proposed Consent Decree with the United States District Court for the Eastern District of North Carolina (Southern Division) in the lawsuit entitled United States v. City of Wilmington, N.C., New Hanover County, N.C., and Cape Fear Public Utility Authority, (the “Defendants”) and the State of North Carolina, as a Necessary Party required by 33 U.S.C. Section 1319(e), Civil Action No. 7:13-cv-144-BO. The Consent Decree resolves claims against the Defendants under Sections 301 and 402 of the Clean Water Act (the “Act”), 33 U.S.C. 1311 and 1342, for discharges of pollutants from unpermitted point sources, and for violations of operation and maintenance requirements of the Defendants' National Pollutant Discharge Elimination System (“NPDES”) permits from at least 2003 through the date of filing of the complaint and the lodging of this Consent Decree. The Consent Decree requires the Cape Fear Public Utility Authority (the “Authority”) to implement injunctive relief within approximately two years from entry of the Consent Decree with the goal of eliminating sanitary sewer overflows (“SSOs”). The Consent Decree sets forth specific actions the Authority must take to achieve compliance with the Act. In addition, the Consent Decree requires the payment of a civil penalty of $300,000.

The publication of this notice opens a period for public comment on the Consent Decree. Comments should be addressed to the Assistant Attorney General, Environment and Natural Resources Division, and should refer to United States v. City of Wilmington, New Hanover County, and Cape Fear Public Utility Authority,(the “Defendants”) and the State of North Carolina, D.O.J. No. 90-5-1-1-09405. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ—ENRD, P.O. Box 7611, Washington, DC 20044-7611.

Please enclose a check or money order for $14.75 (25 cents per page reproduction cost) payable to the United States Treasury.

Maureen Katz,
Assistant Section Chief, Environmental Enforcement Section, Environment and Natural Resources Division.

[FR Doc. 2013-17088 Filed 7-16-13; 8:45 am]

BILLING CODE 4410-15-P